DEPARTMENT OF AGRICULTURE

Food Safety and Inspection Service

9 CFR Part 392

[Docket No. FSIS-2009-0029]

Petitions for Rulemaking; Approval of Information Collection

AGENCY: Food Safety and Inspection Service, USDA.

ACTION: Final rule; information collection approval.

SUMMARY: The Food Safety and Inspection Service (FSIS) is announcing that the Office of Management and Budget (OMB) has approved the information collection associated with its final rule “Petitions for Rulemaking,” published April 9, 2009.

DATES: On July 16, 2009, the Office of Management and Budget approved the information collection requirements for the rule published April 9, 2009, at 74 FR 16104 and effective June 8, 2009.

FOR FURTHER INFORMATION CONTACT: Rachel Edelstein, Director, Policy Issuances Division, Office of Policy and Program Development, Food Safety and Inspection Service, USDA, Washington, DC 20250, (202) 720-5627.

SUPPLEMENTARY INFORMATION: FSIS has been delegated the authority to exercise the functions of the Secretary as specified in the Federal Meat Inspection Act (FMIA) (21 U.S.C. 601, et seq.) and the Poultry Products Inspection Act (PPIA) (21 U.S.C. 451, et seq.). FSIS protects the public by verifying that meat, poultry, and egg products are safe, wholesome, unadulterated, and correctly labeled and packaged.

FSIS is notifying the public that OMB has approved the information collection associated with the final rule “Petitions for Rulemaking,” which published on April 9, 2009 (74 FR 16104). The final rule amended the FSIS administrative regulations by adding a new part 392 that established regulations governing the submission of petitions for rulemaking to FSIS.

OMB had not approved the information collection requirements associated with the Petitions for Rulemaking final rule when the final rule published. Therefore, in the preamble to the rule, FSIS explained that it would collect no information associated with rule until the information collection request received OMB approval (74 FR 16104, 16106-16107). OMB approved the information collection on July 16, 2009; the OMB number is 0583-0136.

Therefore, FSIS will now begin to collect information associated with the final rule. In addition, now that FSIS is authorized to collect such information, effective January 25, 2010 the Agency will begin to post all petitions for rulemaking that it receives, along with any supporting documentation, on the FSIS Web site at http://www.fsis.usda.gov/regulations_&_policies/Petitions/index.asp (see 9 CFR 392.6(a)).

Additional Public Notification

Public awareness of all segments of rulemaking and policy development is important. Consequently, in an effort to ensure that the public and in particular minorities, women, and persons with disabilities, are aware of this document, FSIS will announce it on-line through the FSIS Web page located at http://www.fsis.usda.gov/regulations/2009_Notices_Index/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on January 19, 2010.
Alfred V. Almanza,
Administrator.

[FR Doc. 2010-1263 Filed 1-22-10; 8:45 am]

BILLING CODE 3410-DM-P